DEPARTMENT OF THE INTERIOR

Bureau of Land Management

[LLOR-936000-L14300000-ET0000-14XL1109AF; HAG-14-0197; OR-19024, OR-19046, OR-19083]

Public Land Order No. 7851; Partial Revocation, Power Site Reserve Nos. 24, 145, and 566; Oregon

AGENCY: Bureau of Land Management, Interior.

ACTION: Public Land Order.

SUMMARY: This order partially revokes three withdrawals insofar as they affect 23,878.22 acres of public and non-Federal lands originally withdrawn to protect water power values. Portions of the withdrawals created by two Executive Orders which established Power Site Reserve Nos. 24, 145, and 566, are no longer needed for the purpose for which they were withdrawn. The lands will not be restored to operation of the public land laws because they have either been conveyed out of Federal ownership, or are included in the John Day Wild and Scenic River withdrawal.

DATES: This Public Land Order is effective on March 29, 2016.

FOR FURTHER INFORMATION CONTACT: Jenice Prutz, Bureau of Land Management, Oregon State Office, P.O. Box 2965, Portland, Oregon, 97208-2965, 503-808-6163. Persons who use a telecommunications device for the deaf (TDD) may call the Federal Information Relay Service (FIRS) at 1-800-877-8339. The FIRS is available 24 hours a day, 7 days a week, to leave a message or question with the above individual. You will receive a reply during normal business hours.

SUPPLEMENTARY INFORMATION: The subject lands are located within the designated boundary of the John Day Wild and Scenic River. The lands, which are precluded from waterpower development, would continue to be managed subject to the provisions of the National Wild and Scenic Rivers System Act, Public Law 90-542, as amended, 16 U.S.C. 1271 et seq. Revocation of the power site reserve withdrawals is consistent with the Bureau of Land Management's land management plan for the John Day Wild and Scenic River.

Order

By virtue of the authority vested in the Secretary of the Interior by Section 204 of the Federal Land Policy and Management Act of 1976, 43 U.S.C. 1714, and pursuant to the determination by the Federal Energy Regulatory Commission in DV13-3-000, it is ordered as follows:

1. The withdrawal created by the Executive Order dated July 2, 1910, which established Power Site Reserve Nos. 24 and 145, is hereby revoked insofar as it affects the following-described land:

Willamette Meridian

(a) Power Site Reserve No. 24

Federal Lands

T. 3 S., R. 18 E.,

Sec. 2, lots 2, 3, and 4, SW¼NE¼, SE¼NW¼, S½SW¼, and W½SE¼;

Sec. 11, W½NE¼, E½NW½, NW¼NW¼, and SW¼SW¼, W½SE¼;

Sec. 23, N½ and SW¼;

Sec. 24, NW¼NW¼;

Sec. 27, E½NE¼;

Sec. 35, SW¼SE¼.

T. 4 S., R. 18 E.,

Sec. 2, lot 2, SW¼NE¼, and S½NW¼;

Sec. 3, lots 1 and 2, S½NE¼, SE¼NW¼, E½SW¼, and W½SE¼;

Sec. 14, S½SW¼;

Sec. 15, E½NE¼ and E½SE¼;

Sec. 22, NE¼NE¼;

Sec. 23, W½NE¼, SE¼NE¼, NW¼, and SE¼;

Sec. 25, NE¼, N½NW¼, and SE¼NW¼.

T. 1 N., R. 19 E.,

Sec. 4, lots 1 and 2, and SE¼NE¼.

T. 4 S., R. 19 E.,

Sec. 29, SW¼NW¼ and SW¼.

T. 5 S., R. 19 E.,

Sec. 9, SW¼ and SW¼SE¼;

Sec. 21, W½NW¼, SE¼NW¼, and SW¼;

Sec. 29, S½N½, NW¼SW¼, and SE¼.

T. 7 S., R. 19 E.,

Sec. 5, lots 3 and 4, S½NW¼, and S½SW¼;

Sec. 7, E½NE¼ and NE¼SE¼;

Sec. 8, SW¼NW¼ and W½SW¼;

Sec. 17, NW¼NW¼;

Sec. 18, W½SE¼ and SE¼SE¼;

Sec. 19, N½NE¼;

Sec. 20, NW¼NW¼.

T. 8 S., R. 19 E.,

Sec. 9, SE¼SW¼;

Sec. 21, lots 5 to 8, inclusive;

Sec. 25, W½SW¼;

Sec. 26, N½SE¼ and SE¼SE¼;

Sec. 35, NE¼NE¼.

T. 9 S., R. 19 E.,

Sec. 12, NE¼SE¼ and S½SE¼.

T. 1 N., R. 20 E.,

Sec. 31, lot 1 and NE¼NW¼.

T. 1 S., R. 20 E.,

Sec. 6, lot 3, SW¼NE¼, SE¼NW¼, and NW¼SE¼;

Sec. 7, lot 4.

T. 8 S., R. 20 E.,

Sec. 31, lots 2 and 3, E½SW¼, and SW¼SE¼.

T. 9 S., R. 20 E.,

Sec. 6, lots 1, 2, 6, and 7, S½NE¼, E½SW¼, and NW¼SE¼;

Sec. 30, lots 1 and 2, and E½NW¼;

Sec. 32, S½NE¼, NW¼, and N½SE¼.

T. 9 S., R. 21 E.,

Sec. 28, SW¼SW¼;

Sec. 29, S½SW¼ and S½SE¼;

Sec. 30, SE¼SE¼;

Sec. 31, NE¼, E½NW¼, NE¼SW¼, and NW¼SE¼.

T. 9 S., R. 22 E.,

Sec. 13, NW¼SW¼;

Sec. 14, NE¼SE¼ and S½SE¼;

Sec. 22, SE¼NE¼, NE¼SW¼, N½SE¼, and SW¼SE¼;

Sec. 23, W½NE¼ and SE¼NW¼;

Sec. 27, NE¼NW¼;

Sec. 28, SE¼NE¼, SW¼SW¼, and NE¼SE¼;

Sec. 32, SW¼SE¼.

T. 10 S., R. 22 E.,

Sec. 5, lot 4.

T. 9 S., R. 23 E.,

Sec. 18, E½SW¼.

The areas described aggregate 7,942.96 acres within Gilliam, Jefferson, Sherman, Wasco, and Wheeler Counties.

Non-Federal Lands (Conveyed out of Federal Ownership Subject to Section 24 Reservation)

T. 1 N., R. 20 E.,

Sec. 31, lot 2 and SE¼NW¼.

T. 9 S., R. 22 E.,

Sec. 28, E½SW¼;

Sec. 32, SW¼NE¼, NE¼SW¼, and NW¼SE¼.

T. 10 S., R. 22 E.,

Sec. 6, lot 3, SE¼NW¼.

The areas described aggregate 373.94 acres within Gilliam, Sherman, and Wheeler Counties.

(b) Power Site Reserve No. 145

Federal Lands

T. 3 S., R. 18 E.,

Sec. 11, E½NE¼ and E½SE¼;

Sec. 15, SE¼SE¼;

Sec. 27, W½NE¼, SE¼NW¼, NE¼SW¼, and N½SE¼.

T. 4 S., R. 18 E.,

Sec. 13, W½SW¼.

T. 1 S., R. 19 E.,

Sec. 10, S½NE¼, NE¼SW¼, and NW¼SE¼;

Sec. 31, W½SE¼.

T. 5 S., R. 19 E.,

Sec. 17, SE¼SE¼;

Sec. 20, NE¼NE¼;

Sec. 29, NE¼NW¼.

T. 6 S., R. 19 E.,

Sec. 7, NW¼NE¼ and SE¼NW¼;

Sec. 8, SW¼SW¼;

Sec. 17, NW¼NW¼ and SW¼SW¼;

Sec. 18, SW¼NE¼ and NW¼SE¼;

Sec. 19, E½NE¼ and SE¼SE¼;

Sec. 20, W½NW¼;

Sec. 29, SE¼NW¼ and NE¼SW¼.

T. 7 S., R. 19 E.,

Sec. 8, SE¼NW¼ and E½SW¼;

Sec. 17, NE¼NW¼;

Sec. 29, NW¼NW¼.

T. 8 S., R. 19 E.,

Sec. 22, lots 5 and 6.

T. 9 S., R. 19 E.,

Sec. 12, SW¼NE¼, SE¼NW¼, and NW¼SW¼.

T. 1 S., R. 20 E.,

Sec. 6, E½SE¼;

Sec. 7, SE¼SW¼ and NW¼SE¼.

T. 9 S., R. 20 E.,

Sec. 30, W½NE¼ and S½SE¼;

Sec. 32, NE¼SW¼.

T. 9 S., R. 22 E.,

Sec. 23, NW¼SW¼ and NW¼SE¼.

The areas described aggregate 2,238.07 acres within Gilliam, Jefferson, Sherman, Wasco, and Wheeler Counties.

2. The withdrawal created by Executive Order dated November 24, 1916, which established Power Site Reserve No. 566, is hereby revoked insofar as it affects the following-described lands:

Willamette Meridian

Federal Lands

T. 2 S., R. 18 E.,

Sec. 1, lots 1 and 2, SW¼NE¼, and NE¼SE¼;

Sec. 11, SE¼;

Sec. 12, W½NE¼, N½SW¼, SW¼SW¼, and SE¼SE¼;

Sec. 13, NW¼, N½SW¼, and SE¼SW¼;

Sec. 14, NE¼;

Sec. 23, E½;

Sec. 24, NW¼NE¼, NE¼NW¼, E½SW¼, SW¼SW¼, and W½SE¼;

Sec. 25, N½NW¼ and SW¼NW¼;

Sec. 26, E½, E½NW¼, and E½SW¼;

Sec. 34, E½SE¼;

Sec. 35, NE¼, E½NW¼, SW¼NW¼, SW¼, and E½SE¼.

T. 3 S., R. 18 E.,

Sec. 2, lot 1, SE¼NE¼, and E½SE¼;

Sec. 13, W½SW¼;

Sec. 14;

Sec. 22, NE¼, N½SE¼, and SE¼SE¼;

Sec. 23, NW¼SE¼;

Sec. 26, W½;

Sec. 27, NE¼NW¼;

Sec. 34, E½NE¼, SW¼NE¼, and SE¼;

Sec. 35, N½NW¼, SW¼NW¼, N½SW¼, and NW¼SE¼.

T. 4 S., R. 18 E.,

Sec. 3, E½SE¼;

Sec. 10, NE¼, E½NW¼, N½SE¼, and SE¼SE¼;

Sec. 13, SW¼NW¼;

Sec. 14, N½NE¼, SE¼NE¼, E½NW¼, SW¼NW¼, NW¼SW¼, and S½SE¼;

Sec. 23, N½SW¼, and SE¼SW¼;

Sec. 24, SW¼ and SW¼SE¼;

Sec. 25, SW¼NW¼.

T. 5 S., R. 18 E.,

Sec. 25, SE¼SW¼ and SE¼.

T. 1 N., R. 19 E.,

Sec. 2, SW¼NW¼ and NE¼SW¼;

Sec. 14, S½NE¼, N½SE¼, N½SW¼SE¼, N½SW¼SW¼SE¼, N½S½SW¼SW¼SE¼, SE¼SW¼SE¼, and SE¼SE¼.

T. 2 N., R. 19 E.,

Sec. 18, SW¼NE¼;

Sec. 19, E½SW¼;

Sec. 28, SW¼SW¼ and E½SE¼;

Sec. 30, E½NE¼;

Sec. 32, N½NE¼ and NE¼NW¼.

T. 1 S., R. 19 E.,

Sec. 10, SE¼NW¼, SE¼SW¼, and SW¼SE¼;

Sec. 11, NE¼SW¼ and N½SE¼;

Sec. 12, S½NW¼, NW¼SW¼, SE¼SW¼, and S½SE¼;

Sec. 14, W½NE¼, NW¼, and NE¼SW¼;

Sec. 15, E½NE¼, SW¼NE¼, E½NW¼, and SW¼SW¼;

Sec. 17, N½NE¼, SE¼NW¼, NW¼SW¼, NE¼SE¼, and SW¼SE¼;

Sec. 19, lots 4, 5, 6, 9, 10, and 11, SE¼NE¼, and W½SE¼;

Sec. 21, N½NE¼ and SE¼NE¼;

Sec. 22, N½NE¼, NE¼NW¼, SW¼NW¼, NE¼SW¼, and N½SE¼;

Sec. 23, NW¼NW¼, SE¼NW¼, and NW¼SW¼;

Sec. 30, lots 4, 5, 6, 8, 9, and 10;

Sec. 31, lots 1, 3, 4, and 9, and W½NE¼.

T. 2 S., R. 19 E.,

Sec. 5, SW¼NW¼ and W½SW¼;

Sec. 6, lots 1, 2, 4, 6 and 7, SE¼NE¼, E½SW¼, and W½SE¼;

Sec. 7, lots 2 and 3.

T. 4 S., R. 19 E.,

Sec. 19, SW¼SE¼;

Sec. 29, NW¼NW¼;

Sec. 30, lots 1, 2, and 3, NE¼, E½NW¼, and E½SE¼;

Sec. 31, NE¼ and E½SE¼

Sec. 32, SW¼NE¼, W½, and E½SE¼.

T. 5 S., R. 19 E.,

Sec. 5, lots 1 and 2, SW¼NE¼, and N½SW¼;

Sec. 6, lot 1;

Sec. 8, S½NE¼ and NW¼NW¼;

Sec. 17, E½NE¼ and NE¼SE¼;

Sec. 20, SE¼NE¼, S½SW¼, S½SE¼, and NE¼SE¼;

Sec. 28, NW¼, N½SW¼, and SW¼SW¼;

Sec. 29, N½NE¼ and NW¼NW¼;

Sec. 30, lots 2, 3, and 4, S½NE¼, SE¼NW¼, NE¼SW¼, and NW¼SE¼.

T. 6 S., R. 19 E.,

Sec. 7, NW¼SE¼;

Sec. 30, NW¼NE¼.

T. 8 S., R. 19 E.,

Sec. 10, lots 5 and 6.

T. 1 N., R. 20 E.,

Sec. 30, lots 3 and 4, E½SW¼, W½SE¼, and SE¼SE¼.

The areas described aggregate 13,283.25 acres in Gilliam, Jefferson, Sherman, Wasco, and Wheeler Counties.

Non-Federal Lands (Conveyed out of Federal Ownership Subject to Section 24 Reservation)

T. 6 S., R. 19 E.,

Sec. 6, SE¼NW¼.

The area described contains 40 acres within Gilliam and Wasco Counties.

Dated: March 5, 2016.
Janice M. Schneider,
Assistant Secretary—Land and Minerals Management.

[FR Doc. 2016-07005 Filed 3-28-16; 8:45 am]

BILLING CODE 4310-33-P